DEPARTMENT OF TRANSPORTATION

Federal Aviation Administration

14 CFR Part 91

[Docket No. FAA-2000-7110; Amendment No. 91-262]

RIN 2120-AG94

Special Visual Flight Rules

AGENCY: Federal Aviation Administration, DOT.

ACTION: Direct final rule; confirmation of effective date.

SUMMARY: This action amends the language regarding aircraft operating in accordance with Special Visual Flight Rules (SVFR). Specially, this action will permit a general aviation pilot at a satellite airport where weather reporting is not available, to depart in meteorological conditions less than basic Visual Flight Rules (VFR) weather minimums provided that the pilot determines that he has the requisite flight visibility. The FAA is taking this action to reduce the number of unnecessary flight delays being faced by general aviation aircraft while providing an equivalent level of safety.

EFFECTIVE DATE: The rule is effective on May 23, 2000.

FOR FURTHER INFORMATION CONTACT: Avis P. Person, Airspace and Rules Division (ATA-400), Air Traffic Airspace Management Program, Federal Aviation Administration, 800 Independence Avenue, SW, Washington, DC 20591; telephone number (202) 267-8783.

SUPPLEMENTARY INFORMATION: The FAA published this direct final rule with a request for comments in the Federal Register on March 24, 2000 (65 FR 16114). The FAA uses the direct final rulemaking procedure for a non-controversial rule where the FAA believes that there will be no adverse public comment. This direct final rule advised the public that no adverse comments were anticipated, and that unless a written adverse comment, or a written notice of intent to submit such an adverse comment, were received within the comment period, the regulation would become effective on May 23, 2000. No adverse comments were received, and thus this notice confirms that this final rule will become effective on that date.

Issued in Washington, DC, on May 12, 2000.
Donald P. Byrne,
Assistant Chief Counsel, Regulations Division.

[FR Doc. 00-12561 Filed 5-18-00; 8:45 am]

BILLING CODE 4910-13-M